COMMISSION ON CIVIL RIGHTS

Sunshine Act Notice

AGENCY: United States Commission on Civil Rights.

ACTION: Notice of meeting.

DATE AND TIME: Friday, April 16, 2010; 9:30 a.m. EDT.

PLACE: 624 9th St., NW., Room 540, Washington, DC 20425.

Meeting Agenda

This meeting is open to the public, except where noted otherwise.

I. Approval of Agenda

II. Program Planning

• Approval of Briefing Report on Discrimination Against Native Americans in Border Towns

• Approval of Findings and Recommendations for Briefing Report on the Educational Effectiveness of Historically Black Colleges and Universities

• Approval of Letter to Youngstown, Ohio City Council Members re: Racially Bifurcated Test Results in the Police and Fire Departments

• Consideration Briefing Concept Paper on Attack Against Asian-American Students at South Philadelphia High School

• Discussion of Staff Level Meeting with EEOC re: its Compliance with Request for Documents Related to Civil Rights Enforcement

• Discussion of SEC Response to Document Request on its New Corporate Disclosure Rule re: Diversity

• Discussion of Timetable for Briefing Reports

• Update on National Civil Rights Conference

• Update on Status of 2010 Enforcement Report & Scheduled Hearing—Some of the discussion of this agenda item may be held in closed session.

• Update on Status of Title IX Project—Some of the discussion of this agenda item may be held in closed session.

III. State Advisory Committee Issues

• Colorado SAC

• New Jersey SAC

• South Carolina SAC

• Washington State SAC

IV. Staff Director's Report

V. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: April 6, 2010.
David Blackwood,
General Counsel.

[FR Doc. 2010-8149 Filed 4-6-10; 4:15 pm]

BILLING CODE 6335-01-P